DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the name of one person whose property and interests in property have been unblocked and removed from the List of Specially Designated Nationals and Blocked Persons (SDN List).

DATES: See SUPPLEMENTARY INFORMATION section.

FOR FURTHER INFORMATION CONTACT: OFAC: Bradley T. Smith, Director, tel.: 202-622-2490; Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action

On March 5, 2024, OFAC determined that the following person would be removed from the SDN List and that their property and interests in property subject to U.S. jurisdiction are unblocked pursuant to Executive Order (E.O.) 13818. This person is no longer subject to the blocking provisions of Section 1(a) of E.O. 13818.

Individual

1. RONDON RIJO, Angel, Ave. Anacaona #83 Torre Caney Apt. 25, Santo Domingo, Dominican Republic; DOB 16 Jul 1950; POB Higuey, Dominican Republic; Gender Male; Passport SC2249384 (Dominican Republic) issued 14 Jan 2015 expires 14 Jan 2021; alt. Passport 3297843 (Dominican Republic) issued 14 Jan 2015 expires 14 Jan 2021; National ID No. 00101629970 (Dominican Republic) (individual) [GLOMAG].

Dated: March 5, 2024.
Bradley T. Smith,
Director, Office of Foreign Assets Control.

[FR Doc. 2024-04964 Filed 3-7-24; 8:45 am]

BILLING CODE 4810-AL-P